NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 26, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-03-17, 8 items, 8 temporary items). Files relating to Air Force legal assistance activities, including such records as representation letters, notary logs, notary appointment letters, and personal legal readiness briefings. Also included are electronic copies of records created using electronic mail and word processing.

2. Department of the Air Force, Agency-wide (N1-AFU-03-20, 2 items, 2 temporary items). Records relating to helicopter crewmember flight evaluations, including worksheets used to record evaluation results and to complete the Certificate of Aircrew Evaluation. Also included are electronic copies of records created using electronic mail and word processing.

3. Department of the Army, Agency wide (N1-AU-03-14, 2 items, 2 temporary items). Reports and other records relating to reviews of ammunition facilities at Army commands. Also included are electronic copies of records created using electronic mail and word processing. This schedule authorizes the agency to apply the proposed disposition instructions to any recordkeeping medium.

4. Department of the Army, Agency-wide (N1-AU-03-24, 2 items, 2 temporary items). Records relating to educational and developmental intervention services provided to children of eligible service members. Included are referral and eligibility documentation, evaluations, transition plans, and related information. Also included are electronic copies of documents created using electronic mail and word processing. This schedule authorizes the agency to apply the proposed disposition instructions to any recordkeeping medium.

5. Department of Commerce, National Oceanic and Atmospheric Administration (N1-370-03-2, 12 items, 11 temporary items). Records of the National Weather Service's Office of Hydrologic Development. Included are such records as unpublished reports and data on which published reports are based and hydrologic information background materials. Also included are data, system documentation, inputs, outputs, and backups associated with the NOAA Hydrologic Data System and electronic copies of records created using electronic mail and word processing. Proposed for permanent retention are recordkeeping copies of published hydrologic reports on precipitation frequency and probable maximum precipitation studies.

6. Department of Defense, National Imagery and Mapping Agency (N1-537-03-18, 10 items, 8 temporary items). Records relating to continuity of operations planning and other continuity planning. Also included are electronic copies of documents created using word processing and electronic mail. Proposed for permanent retention are recordkeeping copies of files relating to joint planning and organizational planning. This schedule authorizes the agency to apply the proposed disposition instructions to any recordkeeping medium.

7. Department of Homeland Security, Transportation Security Administration (N1-560-03-15, 4 items, 2 temporary items). Electronic copies of records created using electronic mail and word processing that are associated with the internal and external correspondence of the agency's Administrator, Deputy Administrator, and Chief of Staff. Recordkeeping copies of these files are proposed for permanent retention.

8. Department of Homeland Security, Bureau of Immigration and Customs Enforcement (N1-563-04-1, 4 items, 4 temporary items). Inputs, outputs, master files, and documentation associated with the Student and Exchange Visitor Information System, an electronic system containing personal data used to track and monitor non-immigrant students, exchange visitors, and their dependents in the United States.

9. Department of the Treasury, Bureau of the Public Debt (N1-53-03-12, 5 items, 5 temporary items). Paper and microfilm inputs for the Special Purpose Securities System, electronic reports generated from this system, and Federal Housing Administration reports. Records relate to such matters as early redemption requests, redemption of time deposits, fund receipt reports, future and prior issues and payments, security rollovers, notices of assessments, payment summaries, and interest accruals.

10. Department of the Treasury, Air Transportation Stabilization Board (N1-56-03-9, 11 items, 4 temporary items). Routine correspondence and staff working papers relating to loan guarantee programs to assist air carriers for losses incurred as a result of the terrorist attacks on the United States that occurred on September 11, 2001. Also included are electronic copies of records created using electronic mail and word processing. Proposed for permanent retention are recordkeeping copies of loan guarantee application files, decision memorandums and supporting documentation, loan agreements, decision letters, meeting minutes, press releases, and quarterly loan monitoring reports.

11. Department of Veterans Affairs, Veterans Health Administration (N1-15-02-6, 10 items, 10 temporary items). Paper and electronic records relating to the employment incentive scholarship program and the education debt reduction program. Records relate to participants in these programs as well as to non-selected applicants. Included are such files as applications, worksheets, payment summaries, and an electronic database used for tracking applications. Also included are electronic copies of records created using word processing and electronic mail.

12. Environmental Protection Agency, Agency-wide (N1-412-03-20, 3 items, 3 temporary item). Records relating to clearing persons and companies who require access to confidential business information. Also included are electronic copies of records created using electronic email and word processing.

13. National Archives and Records Administration, Government-wide (N1-GRS-04-1, 9 items, 8 temporary items). Addition to the General Records Schedules for records of temporary commissions, boards, councils, and committees. Included are such records as files relating to day-to-day administrative activities, web site records (except for records identified by NARA as historically valuable), and committee management records. Also included are electronic copies of records created using electronic mail and word processing. Recordkeeping copies of files documenting the establishment, membership, policies, organization, deliberations, findings, and recommendations of these bodies are proposed for permanent retention.

14. Small Business Administration, Office of Business Development (N1-309-03-10, 6 items, 6 temporary items). Inputs, outputs, master files, documentation, and backups of the Small Disadvantaged Business Tracking System, an electronic system used to track the Small Disadvantaged Business certification process.

15. Social Security Administration, Office of Disability and Income Security Programs (N1-47-03-1, 26 items, 26 temporary items). Claim files and other records related to Title II (Retirement, Survivors and Disability Insurance) and Title XVI (Supplemental Security Income for the Aged, Blind and Disabled) of the Social Security Act. Also included are electronic copies of records created using electronic mail and word processing. This schedule authorizes the agency to apply the proposed disposition instructions to any recordkeeping medium.

Dated: October 31, 2003.
Michael J. Kurtz,
Assistant Archivist for Record Services—Washington, DC.

[FR Doc. 03-28176 Filed 11-7-03; 8:45 am]

BILLING CODE 7515-01-P